DEPARTMENT OF LABOR

Employment and Training Administration

Trade Adjustment Assistance Program; Designation of Certifying Officers

AGENCY: Employment and Training Administration; Labor.

ACTION: Notice of designation of certifying officers.

SUMMARY: The trade adjustment assistance program operates under the Trade Act of 1974 to furnish program benefits to domestic workers adversely affected in their employment by imports of articles which are like or are directly competitive with articles produced by the firm employing the workers. The Trade Adjustment Assistance Reform Act of 2002 amended the Trade Act of 1974, to extend eligibility to those workers whose firm shifted production to certain foreign countries; to workers of upstream supplier firms selling components to firms whose workers have received a certification of eligibility to apply for trade adjustment assistance; to workers of downstream producer firms engaged in assembly or finishing for firms whose workers have received a certification of eligibility to apply for trade adjustment assistance based on a shift in production or increased imports from Mexico or Canada; and added the program option of alternative trade adjustment assistance for older workers over age 50 years. Workers become eligible for program benefits only if the worker group is certified under the Act as eligible to apply for adjustment assistance and/or alternative trade adjustment assistance. From time to time the agency issues an Order designating or redesignating officials of the agency authorized to act as certifying officers, responsible for reviewing and signing adjustment assistance determinations. Employment and Training Order No. 1-05, was issued to revise the listing of officials designated as certifying officers, superseding the previous Order. Employment and Training Order No. 1-05, is published below.

Signed at Washington, DC, this 31st day of January 2005.
Emily Stover DeRocco,
Assistant Secretary of Labor, Employment and Training Administration.

BILLING CODE 4510-30-P

[FR Doc. 05-2305 Filed 2-7-05; 8:45 am]

BILLING CODE 4510-30-C